DEPARTMENT OF TRANSPORTATION

Federal Aviation Administration

14 CFR Part 39

[Docket No. FAA-2022-1304; Project Identifier AD-2022-00347-T; Amendment 39-22482; AD 2023-12-23]

RIN 2120-AA64

Airworthiness Directives; The Boeing Company Airplanes

AGENCY: Federal Aviation Administration (FAA), DOT.

ACTION: Final rule.

SUMMARY: The FAA is adopting a new airworthiness directive (AD) for certain The Boeing Company Model 767-300F airplanes. This AD was prompted by a report indicating that the installation requirements were not followed for the first observer seat in the flight deck. This AD requires installing placards in various locations of the flight deck to indicate the proper position for the first observer seat during taxi, takeoff, and landing, and revising the existing airplane flight manual (AFM). The FAA is issuing this AD to address the unsafe condition on these products.

DATES: This AD is effective August 15, 2023.

The Director of the Federal Register approved the incorporation by reference of a certain publication listed in this AD as of August 15, 2023.

ADDRESSES:

AD Docket: You may examine the AD docket at regulations.gov under Docket No. FAA-2022-1304; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For service information identified in this final rule, contact Boeing Commercial Airplanes, Attention: Contractual & Data Services (C&DS), 2600 Westminster Blvd., MC 110-SK57, Seal Beach, CA 90740-5600; telephone 562-797-1717; website myboeingfleet.com.

• You may view this service information at the FAA, Airworthiness Products Section, Operational Safety Branch, 2200 South 216th St., Des Moines, WA. For information on the availability of this material at the FAA, call 206-231-3195. It is also available at regulations.gov under Docket No. FAA-2022-1304.

FOR FURTHER INFORMATION CONTACT: Kumar Khatri, Aviation Safety Engineer, FAA, 2200 South 216th St., Des Moines, WA 98198; phone: 206-231-3842; email: kumar.r.khatri@faa.gov.

SUPPLEMENTARY INFORMATION:

Background

The FAA issued a notice of proposed rulemaking (NPRM) to amend 14 CFR part 39 by adding an AD that would apply to all The Boeing Company Model 767-300F airplanes. The NPRM published in the Federal Register on December 9, 2022 (87 FR 75519). The NPRM was prompted by a non-compliance report indicating that the technical standard order installation requirements for the first observer seat in the flight deck were not followed. When the first observer seat, located in front of the supernumerary seats, is in the furthest aft position on the seat tracks, the “head path stay out zone” is compromised. In the NPRM, the FAA proposed to require installing placards in various locations of the flight deck to indicate the proper position for the first observer seat during taxi, takeoff, and landing, and revising the existing AFM. The FAA is issuing this AD to address the unsafe condition, which could result in occupants seated in the right or center supernumerary seats sustaining an injury during an emergency landing.

Discussion of Final Airworthiness Directive

Comments

The FAA received comments from the Air Line Pilots Association, International (ALPA), and The Boeing Company who supported the NPRM without change.

The FAA received additional comments from Aviation Partners Boeing, Federal Express (FedEx), and United Parcel Service (UPS). The following presents the comments received on the NPRM and the FAA's response to each comment.

Effect of Winglets on Accomplishment of the Proposed Actions

Aviation Partners Boeing stated that the installation of winglets per Supplemental Type Certificate (STC) ST01920SE on applicable Boeing models subject to the proposed rule does not affect compliance with the mandated actions in this AD.

The FAA agrees with the commenter that STC ST01920SE does not affect the ability to accomplish the actions required by this AD. The FAA has not changed this AD in this regard.

Request To Allow Installation of Equivalent Placards

FedEx stated that Boeing Special Attention Requirements Bulletin 767-25-0589 RB, dated February 25, 2022, currently specifies the installation of Boeing placard part numbers BAC27TFDE714 and BAC27TFDE715. FedEx requested that the proposed AD be revised to allow installation of equivalent placards with like verbiage in lieu of the Boeing part numbers.

The FAA disagrees with the request because the placard verbiage, font, color and locations are standard and they follow the certification requirements. Although, it is not acceptable to change the verbiage, an alternative method of compliance (AMOC) request may be submitted with supporting data that demonstrates an acceptable level of safety for equivalent placards. The FAA has not changed this AD in this regard.

Request To Change Instructions for Placard Installation

FedEx requested that the AD allow measuring both the horizontal and vertical dimensions from the same corner that currently only the vertical dimension is measured from, as specified in the Boeing Special Attention Requirements Bulletin 767-25-0589 RB, dated February 25, 2022. FedEx additionally wanted the dimension tolerances increased to a minimum of 0.25″/1.50″ for workability, as these position tolerances do not affect safety or the ability of the placard to communicate safety information to the crew.

The FAA disagrees with the requested method of measurement as it does not comply with the information specified in Boeing Special Attention Requirements Bulletin 767-25-0589 RB, dated February 25, 2022. Operators may submit requests for approval of AMOCs with supporting data that demonstrates an acceptable level of safety for an alternative method of measurement and deviation to the dimensional tolerances specified in Boeing Special Attention Requirements Bulletin 767-25-0589 RB, dated February 25, 2022. The FAA has not changed this AD in this regard.

Request To Change Applicability Statement

UPS requested that the paragraph (c) of the proposed AD be updated to state that the AD is limited to Model 767-300F airplanes identified in Boeing Special Attention Requirements Bulletin 767-25-0589 RB, dated February 25, 2022, instead of stating that all Model 767-300F airplanes are affected.

The FAA agrees with the comment because the manufacturer has incorporated the placards on line numbers 1208 and subsequent in production. Therefore, the affected airplane line numbers are listed in Boeing Special Attention Requirements Bulletin 767-25-0589 RB, dated February 25, 2022. Paragraph (c) of this AD has been updated accordingly.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Related Service Information Under 1 CFR Part 51

The FAA reviewed Boeing Special Attention Requirements Bulletin 767-25-0589 RB, dated February 25, 2022. This service information specifies procedures for installing markers (placards) in the flight deck regarding the position of the first observer seat position during taxi, takeoff, and landing.

This service information is reasonably available because the interested parties have access to it through their normal course of business or by the means identified in ADDRESSES.

Compliance With AFM Revisions

Section 91.9 prohibits any person from operating a civil aircraft without complying with the operating limitations specified in the AFM and on installed placards. FAA regulations also require operators to furnish pilots with any changes to the AFM (14 CFR 121.137) and pilots in command to be familiar with the AFM and installed placards containing operating limitations (14 CFR 91.505).

Costs of Compliance

The FAA estimates that this AD affects 153 airplanes of U.S. registry. The FAA estimates the following costs to comply with this AD:

Estimated Costs
Action | Labor cost | Parts cost | Cost per product | Cost on U.S. operators
Placard installation | 1 work-hour × $85 per hour = $85 | Up to $117 | Up to $202 | Up to $30,906.
AFM revision | 1 work-hour × $85 per hour = $85 | 0 | $85 | $13,005.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-12-23 The Boeing Company: Amendment 39-22482; Docket No. FAA-2022-1304; Project Identifier AD-2022-00347-T.

(a) Effective Date

This airworthiness directive (AD) is effective August 15, 2023.

(b) Affected ADs

None.

(c) Applicability

This AD applies to The Boeing Company Model 767-300F airplanes, certificated in any category, as identified in Boeing Special Attention Requirements Bulletin 767-25-0589 RB, dated February 25, 2022.

(d) Subject

Air Transport Association (ATA) of America Code 11, Placards and markings.

(e) Unsafe Condition

This AD was prompted by a report indicating that the installation requirements were not followed for the first observer seat in the flight deck. When the first observer seat, located in front of the supernumerary seats, is in the furthest aft position on the seat tracks the “head path stay out zone” is compromised. The FAA is issuing this AD to address this condition, which if not addressed, could result in occupants seated in the right or center supernumerary seats sustaining an injury during an emergency landing.

(f) Compliance

Comply with this AD within the compliance times specified, unless already done.

(g) Placard Installation

Except as specified by paragraph (h) of this AD: At the applicable time specified in the “Compliance” paragraph of Boeing Special Attention Requirements Bulletin 767-25-0589 RB, dated February 25, 2022, do all applicable actions identified in, and in accordance with, the Accomplishment Instructions of Boeing Special Attention Requirements Bulletin 767-25-0589 RB, dated February 25, 2022.

Note 1 to paragraph (g): Guidance for accomplishing the actions required by this AD can be found in Boeing Special Attention Service Bulletin 767-25-0589, dated February 25, 2022, which is referred to in Boeing Special Attention Requirements Bulletin 767-25-0589 RB, dated February 25, 2022.

(h) Exception to Service Information Specifications

Where the Compliance Time column of the table in the “Compliance” paragraph of Boeing Special Attention Requirements Bulletin 767-25-0589 RB, dated February 25, 2022, uses the phrase “the original issue date of Requirements Bulletin 767-25-0589 RB,” this AD requires using “the effective date of this AD.”

(i) Revision of Existing Airplane Flight Manual (AFM)

Within 12 months after the effective date of this AD, revise Section 3.1 of the Normal Procedures Section of the existing AFM to include the information in figure 1 to paragraph (i) of this AD. This may be done by inserting a copy of figure 1 to paragraph (i) of this AD into the existing AFM.

Figure 1 to paragraph (i): Flight deck occupancy (freighter airplane)

(j) Alternative Methods of Compliance (AMOCs)

(1) The Manager, AIR-520 Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520 Continued Operational Safety Branch, FAA, to make those findings. To be approved, the repair method, modification deviation, or alteration deviation must meet the certification basis of the airplane, and the approval must specifically refer to this AD.

(k) Related Information

For more information about this AD, contact Kumar Khatri, Aviation Safety Engineer, FAA, 2200 South 216th St., Des Moines, WA 98198; phone: 206-231-3842; email: kumar.r.khatri@faa.gov.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Requirements Bulletin 767-25-0589 RB, dated February 25, 2022.

(ii) [Reserved]

(3) For service information identified in this AD, contact Boeing Commercial Airplanes, Attention: Contractual & Data Services (C&DS), 2600 Westminster Blvd., MC 110-SK57, Seal Beach, CA 90740-5600; telephone 562-797-1717; website myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, fr.inspection@nara.gov, or go to: www.archives.gov/federal-register/cfr/ibr-locations.html.

Issued on June 15, 2023.
Michael Linegang,
Acting Director, Compliance & Airworthiness Division, Aircraft Certification Service.

[FR Doc. 2023-14513 Filed 7-10-23; 8:45 am]

BILLING CODE 4910-13-P